ENVIRONMENTAL PROTECTION AGENCY

[FRL-7398-2]

Meetings of the Small Systems Affordability Working Group of the National Drinking Water Advisory Council

AGENCY: Environmental Protection Agency.

ACTION: Notice of public meetings.

SUMMARY: Under section 10(a)(2) of Pub. L. 92-423, “The Federal Advisory Committee Act,” notice is hereby given of the forthcoming meetings of the Small Systems Affordability Work Group, of the National Drinking Water Advisory Council, established under the Safe Drinking Water Act, as amended (42 U.S.C. 300f et seq.).

DATES: The affordability work group will meet on November 7-8, 2002 (9 a.m.-5:30 p.m. on November 7 and 8:30 a.m.-3:30 p.m. on November 8), then on December 18-19, 2002 (9 a.m.-5:30 p.m. on December 18 and 8:30 a.m.-3:30 p.m. on December 19), and again on January 13-14, 2003 (9 a.m.-5:30 p.m. on January 13 and 8:30 a.m.-3:30 p.m. on January 14).

ADDRESSES: The meetings will be held at RESOLVE Inc., 1255 23rd Street, NW., Suite 275, Washington, DC and are open to the public, but from past experience, seating will likely be limited.

FOR FURTHER INFORMATION CONTACT: For more information on the location and times of these meetings, or general background information please contact the Safe Drinking Water Hotline (phone: 800-426-4791 or (703) 285-1093; e-mail: hotline-sdwa@epa.gov). Members of the public are requested to contact RESOLVE if they plan on attending at (202) 944-2300. Any person needing special accommodations at either of these meetings, including wheelchair access, should contact RESOLVE (contact information previously noted), at least five business days before the meeting so that appropriate arrangements can be made. For technical information contact Mr. Amit Kapadia, Designated Federal Officer, Small Systems Affordability Work Group, U.S. Environmental Protection Agency, Office of Ground Water and Drinking Water (4607M), 1200 Pennsylvania Avenue, NW., Washington, DC 20460 (e-mail: kapadia.amit@epa.gov; Tel: 202-564-4879).

SUPPLEMENTARY INFORMATION: As part of the 2002 appropriations process, Congress directed EPA to “begin immediately to review the Agency's affordability criteria and how small system variance and exemption programs should be implemented for arsenic” (Conference Report 107-272, page 175). Congress further directed the Agency to prepare a report, which EPA submitted (Report to Congress: Small System Arsenic Implementation Issues: EPA 815-R-02-003), “on its review of the affordability criteria and the administrative actions undertaken or planned to be undertaken by the Agency, as well as potential funding mechanisms for small community compliance and other legislative actions, which, if taken by the Congress, would best achieve appropriate extensions of time for small communities while also guaranteeing maximum compliance.” (Conference Report 107-272, page 175).

In evaluating treatment technologies for small systems, EPA currently uses an affordability threshold of 2.5% of median household income. EPA's national-level affordability criteria consist of two major components: an expenditure baseline and an affordability threshold. The expenditure baseline (derived from annual median household water bills) is subtracted from the affordability threshold (a share of median household income that EPA believes to be a reasonable upper limit for these water bills) to determine the expenditure margin (the maximum increase in household water bills that can be imposed by treatment and still be considered affordable). EPA compares the cost of treatment technologies against the available expenditure margin to determine if an affordable compliance technology can be identified. If EPA cannot identify an affordable compliance technology, then it attempts to identify a variance technology. Findings must be made at both the Federal and State level that compliance technologies are not affordable for small systems before a variance can be granted.

EPA is asking the NDWAC for advice on its national-level affordability criteria and the methodology used to establish these criteria. Taking into consideration the structure of the Safe Drinking Water Act and the limitations of readily available data and information sources, EPA is seeking the Council's opinion of the national level affordability criteria, methodology for deriving the criteria, and approach to applying those criteria to NPDWRs.

As part of the Council's review of EPA's national-level affordability criteria, the Agency is seeking input on (1) the Agency's overall approach, (2) alternatives, if any, to the use of median household income as a metric, (3) alternatives, if any, to 2.5% as a metric, (4) alternatives, if any, to calculating the expenditure baseline, (5) the usefulness of a separate criteria for ground and surface water systems, (6) including an evaluation of the potential availability of financial assistance, and (7) the need for making affordability determinations on a regional basis. Other issue areas may also be discussed. The meeting is open to the public; statements from the public will be taken at the close of the meeting. EPA is not soliciting written comments and is not planning to formally respond to comments.

This will be the third, fourth, and fifth work group meetings on this topic. At the first meeting held on September 11-12 , the work group was briefed by EPA on the approach to affordability taken by the Agency. At the first meeting, the work group also devised an approach to answer the Agency's charge questions. For the second work group meeting (to be held on October 21-22), other technical experts on financial assistance have been invited to speak. The purpose of these last three meetings is to continue the workgroup deliberations and to draft a report for the full National Drinking Water Advisory Council.

Dated: October 17, 2002.
Cynthia C. Dougherty,
Director, Office of Ground Water and Drinking Water.

[FR Doc. 02-26994 Filed 10-22-02; 8:45 am]

BILLING CODE 6560-50-P